DEPARTMENT OF JUSTICE

Antitrust Division

Notice Pursuant to the National Cooperative Research and Production Act of 1993—IMS Global Learning Consortium, Inc.

Notice is hereby given that, on March 11, 2019, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Aspire/Ability Inc., Payson, UT; Austin Independent School District, Austin, TX; Bibb County School District, Macon, GA; North Allegheny School District, Pittsburgh, PA; Panopto, Pittsburgh, PA; and PowerSchool Group LLC, Folsom, CA, have been added as parties to this venture.

Also, Japan Electronic Publishing Association, Tokyo, JAPAN; Classlink, Clifton, NJ; Cobb County School District, Smyrna, GA; ASU Prep Digital, Tempe, AZ; ADL, Herndon, VA; Artificial Intelligence Laboratory, University of Seoul, Seoul, REPUBLIC OF KOREA; Learning Objects, Washington, DC; Infinitas, Houten, NETHERLANDS; String Theory Schools, Philadelphia, PA; and Intellify, Boston, MA, have withdrawn as parties to this venture.

In addition, Online Education Center of OUJ has changed its name to Open University of Japan, Chiba, JAPAN.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on December 17, 2018. A notice was published in the Federal Register pursuant to Section 6(b) of the Act on January 31, 2019 (84 FR 795).

Suzanne Morris,
Chief, Premerger and Division, Statistics Unit, Antitrust Division.

[FR Doc. 2019-06545 Filed 4-3-19; 8:45 am]

BILLING CODE 4410-11-P